DEPARTMENT OF STATE

[Public Notice 6572]

Determination To Transfer Title of Selected Aircraft to the Government of Colombia

Pursuant to section 484(a)(2) of the Foreign Assistance Act, as amended (“the Act”) and section 1-100(a)(1) of Executive Order No. 12163, I hereby determine that section 484(a)(1) of the Act (which requires that the United States retain title to aircraft made available to foreign countries primarily for narcotics-related purposes) should not apply to: Six (6) Bell UH-1N helicopters; and one (1) T-65 Ayres spray airplane, because retention of title to these aircraft would be contrary to the national interest of the United States.

This determination, together with the Memorandum of Justification and aircraft inventory, shall be reported to the Congress, and published in the Federal Register.

Dated: February 26, 2009.
Hillary Rodham Clinton,
Secretary of State, Department of State.

[FR Doc. E9-7972 Filed 4-7-09; 8:45 am]

BILLING CODE 4710-17-P